DEPARTMENT OF THE INTERIOR

Bureau of Land Management

[18X.LLAK930000.LXSSL0120000.L131000.DP0000]

Notice of Availability of the Draft Environmental Impact Statement for the Coastal Plain Oil and Gas Leasing Program and Announcement of Public Subsistence-Related Hearings

AGENCY: Bureau of Land Management, Interior.

ACTION: Notice of availability.

SUMMARY: The Bureau of Land Management (BLM), Alaska State Office, is issuing the Draft Environmental Impact Statement (EIS) for the Coastal Plain Oil and Gas Leasing Program and by this notice is announcing the opening of the public comment period. The BLM is also announcing that it will hold public meetings on the Draft EIS and subsistence-related hearings to receive comments on the Draft EIS and the program's potential to impact subsistence resources and activities.

DATES: Comments on the Draft EIS may be submitted in writing until 45 days after the Environmental Protection Agency's publication of Notice of Availability of the Draft EIS in the Federal Register. The BLM will hold public meetings in: Anchorage, Arctic Village, Fairbanks, Fort Yukon, Kaktovik, Utqiaġvik, and Venetie, Alaska, and Washington, DC A public hearing on subsistence resources and activities will occur in conjunction with the public meeting for the Draft EIS in the potentially affected community of Kaktovik. The dates, times, and locations, of the meetings will be announced through local news media, newspapers, and the BLM website.

ADDRESSES: You may submit comments by any of the following methods:

• Website: https://www.blm.gov/programs/planning-and-nepa/plans-in-development/alaska/coastal-plain-eis.

• Mail to: BLM, Alaska State Office, Attention—Coastal Plain EIS, 222 West 7th Avenue, #13, Anchorage, AK 99513-7599.

• Hand Delivery: BLM Alaska Public Information Center (Public Room), 222 W. 8th Avenue (First Floor), Anchorage, Alaska.

FOR FURTHER INFORMATION CONTACT: Nicole Hayes, 907-271-4354; by mail: Bureau of Land Management, 222 West 7th Avenue, #13, Anchorage, AK 99513-7599. You may also request to be added to the mailing list for the EIS. Documents pertaining to the EIS may be examined at http://www.blm.gov/alaska or at the BLM Alaska State Office, BLM Alaska Public Information Center (Public Room), 222 West 8th Avenue (First Floor), Anchorage, Alaska.

People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM is undertaking this Leasing EIS to implement the leasing program consistent with Public Law 115-97. The Leasing EIS will serve to inform BLM's implementation of Public Law 115-97, Section 20001(c)(1), which is the requirement to hold multiple lease sales. It may also inform post-lease activities, including seismic and drilling exploration, development, and transportation of oil and gas in and from the Coastal Plain. Specifically, the Leasing EIS considers and analyzes the environmental impact of various leasing alternatives, including the areas to offer for sale, and the indirect impacts that could result in consideration of the hypothetical development scenario. The alternatives analyze various terms and conditions (i.e., lease stipulations and required operating procedures) to be applied to leases and associated oil and gas activities, to properly balance oil and gas development with protection of surface resources. The lands comprising the Coastal Plain include approximately 1.6 million acres within the approximately 19.3 million-acre Arctic National Wildlife Refuge.

The purpose of the public comment period is to inform the public of the availability of the Draft EIS and solicit comment from the public. Information received during the public comment period will be used to develop the Final EIS.

Before including your address, phone number, email address, or other personal identifying information in your comment, you should be aware that your entire comment—including your personal identifying information—may be made publicly available at any time. While you can ask us in your comment to withhold your personal identifying information from public review, we cannot guarantee that we will be able to do so.

The BLM has worked with interested parties to identify the management decisions best suited to local, regional, and national needs and concerns, as well as to develop a proposed action and alternatives consistent with the following criteria:

• The EIS considers all Federal lands and waters within the Coastal Plain;

• The EIS used scoping to identify issues; impacts and potential alternatives to be addressed;

• Under Public Law 115-97, not fewer than two lease sales, each to include not fewer than 400,000 acres area-wide of the areas with the highest potential of hydrocarbons, must occur by December 2024;

• The BLM considers subsistence resources and users, as well as potential actions to minimize adverse impacts to subsistence in accordance with section 810 of the Alaska National Interest Lands Conservation Act (ANILCA); and

• The EIS considers the surface management of the Coastal Plain.

Future on-the-ground actions requiring BLM approval, including potential exploration and development proposals, would require further NEPA analysis based on the site-specific proposal. Potential applicants would be subject to the terms of the lease; however, the BLM Authorized Officer may require additional site-specific terms and conditions before authorizing any oil and gas activity based on the project level NEPA analysis.

Section 810 of ANILCA requires BLM to evaluate the effects of the alternatives presented in the Draft EIS on subsistence activities, and to hold public hearings if it finds that any alternative may significantly restrict subsistence uses. The preliminary evaluation of subsistence impacts indicates that certain alternatives analyzed in the Draft EIS and the associated cumulative impacts may significantly restrict subsistence uses. Therefore, the BLM will hold a public hearing on subsistence resources and activities in conjunction with the public meeting on the Draft EIS in the potentially affected community of Kaktovik.

Upon completion of a Final EIS and Record of Decision, the BLM intends to conduct lease sales in accordance with Public Law 115-97.

Authority: 40 CFR 1506.6(b).

Ted A. Murphy,
Acting State Director, Alaska.

[FR Doc. 2018-28049 Filed 12-27-18; 8:45 am]

BILLING CODE 4310-JA-P